DEPARTMENT OF HEALTH AND HUMAN SERVICES

Centers for Disease Control and Prevention

[Program Announcement 00146]

Cooperative Agreement With the Kenya Medical Research Institute; Notice of Availability of Funds

A. Purpose

The Centers for Disease Control and Prevention (CDC) announces the availability of funds for fiscal year (FY) 2000 for a cooperative agreement program with the Kenya Medical Research Institute (KEMRI) to conduct complex research studies and related activities to control and prevent malaria, HIV/AIDS, and other diseases of public health importance in Kenya. CDC is committed to achieving the health promotion and disease prevention objectives of “Healthy People 2010”, a national activity to reduce morbidity and mortality and improve the quality of life. This announcement is related to the focus areas of HIV and Immunization and Infectious Diseases. For the conference copy of “Healthy People 2010”, visit the internet site http://www.health.gov/healthypeople.

The objectives of this proposal are:

1. To assist KEMRI in the conduct of field and laboratory research on important human infectious diseases prevalent in Kenya with an emphasis on malaria and HIV.

2. To improve the training of students and public health professionals in basic and applied public health research and the training of students and other professionals in the areas that provide support to research efforts such as data and financial management.

3. To strengthen KEMRI institutional capacity to conduct research and training in public health.

4. To incorporate the results of research into operational disease prevention and control programs in the Republic of Kenya and insure sharing of expertise and research findings with other nations.

5. To determine national priority areas and develop human resources focused on public health.

B. Eligible Applicants

Assistance will be provided only to KEMRI. No other applications are solicited. KEMRI is the most appropriate and qualified agency to conduct the activities specified under this cooperative agreement because:

1. KEMRI is the only research organization in Kenya that possesses the requisite scientific and technical expertise, the infrastructure capacity and who has conducted longitudinal malaria and related HIV research in areas of high morbidity (20 years for malaria and 10 years for HIV/AIDS). These combined attributes make them the only organization in Kenya capable of effectively conducting the research proposed for this cooperative agreement.

2. A major operational unit of KEMRI is located in western Kenya in an area of extremely high level malaria and HIV transmission, and thus is ideally located to evaluate approaches to preventing and controlling these public health problems.

3. KEMRI was established through the Science and Technology Act of the Republic of Kenya and has a Board of Management appointed by the Minister of Health which is responsible for overseeing all research and which has a well-developed secretariat to provide administrative and technical support to research services.

4. KEMRI has been collaborating with health agencies on priority infectious disease research for over 20 years on the grounds of the KEMRI facility both in Nairobi and Kisumu. The KEMRI Facility has experienced staff, equipment, and facilities to support the collaboration.

C. Availability of Funds

Approximately $657,000 is available in FY 2000 to fund one award. It is expected that $574,000 will be available for malaria and infectious diseases and $83,000 will be for HIV/AIDS. It is expected that the award will begin on August 1, 2000, and will be made for a 5-month budget period within a project period of up to five years. The funding estimate may change.

Continuation awards within an approved project period will be made on the basis of satisfactory progress as evidenced by required reports and the availability of funds.

Use of Funds

Indirect costs will not be provided on HHS Grants to international or foreign organizations where the grant is performed entirely outside the territorial limits of the United States.

D. Where to Obtain Additional Information

If you have any questions after reviewing the content of all documents, business management technical assistance may be obtained from: Juanita D. Crowder, Grants Management Specialist, Grants Management Branch, Procurement and Grants Office, Centers for Disease Control and Prevention, Room 3000, 2920 Brandywine Road, Atlanta, GA 30341-4146, Telephone: (770)488-2734, Email address: jdd2@cdc.gov.

For program technical assistance, contact: Sue Binder, M.D., Division of Parasitic Diseases, National Center for Infectious Diseases, Centers for Disease Control and Prevention 1600 Clifton Road, Mailstop F-22, Atlanta, GA 30333, Telephone: (770)488-7793, Email address: sbinder@cdc.gov.

Dated: June 8, 2000.
Henry S. Cassell, III,
Acting Director, Procurement and Grants Office, Centers for Disease Control and Prevention (CDC).

[FR Doc. 00-14950 Filed 6-13-00; 8:45 am]

BILLING CODE 4162-18-P